DEPARTMENT OF TRANSPORTATION

Surface Transportation Board

[STB Finance Docket No. 34384]

The Railroad Co., Inc. and WV Southern Railway Co.—Acquisition and Operation Exemption—Rail Line of CSX Transportation, Inc.

The Railroad Co., Inc. (RRC) and its wholly owned subsidiary, WV Southern Railway Co. (WVSR), both noncarriers, have jointly filed a verified notice of exemption under 49 CFR 1150.31 to acquire and operate a 12-mile rail line owned by CSX Transportation, Inc. extending from milepost 0.0 at Thurmond, to milepost 12.0 at Mt. Hope, in Fayette County, WV.

RRC and WVSR certify that their projected annual revenues as a result of this transaction will not result in the creation of a Class I or Class II rail carrier.¹

¹ WVSR will be the operator of the line.

The transaction was scheduled to be consummated on or after August 1, 2003, the effective date of the exemption (7 days after the notice was filed).

If the notice contains false or misleading information, the exemption is void ab initio. Petitions to revoke the exemption under 49 U.S.C. 10502(d) may be filed at any time. The filing of a petition to revoke will not automatically stay the transaction.

An original and 10 copies of all pleadings, referring to STB Finance Docket No. 34384, must be filed with the Surface Transportation Board, 1925 K Street, NW., Washington, DC 20423-0001. In addition, one copy of each pleading must be served on Marc A. Monteleone, Bowles Rice McDavid Graff & Love, PLLC, 600 Quarrier St., P.O. Box 1386, Charleston, WV 25301-1386.

Board decisions and notices are available on our Web site at “http://www.stb.dot.gov.

Decided: August 7, 2003.
By the Board, David M. Konschnik, Director, Office of Proceedings.
Vernon A. Williams,
Secretary.

[FR Doc. 03-20760 Filed 8-18-03; 8:45 am]

BILLING CODE 4915-00-P